DEPARTMENT OF TRANSPORTATION

Federal Highway Administration

[Docket No. FHWA-2003-16313]

Notice of Request for Renewal of a Currently Approved Information Collection; Federal-Aid Highway Construction Equal Employment Opportunity, OMB Control Number: 2125-0019

AGENCY: U.S. Department of Transportation, Federal Highway Administration (FHWA).

ACTION: Notice and request for public comments.

SUMMARY: In accordance with the requirements in section 3506(c)(2)(A) of the Paperwork Reduction Act of 1995, this notice announces the intention of the FHWA to request the Office of Management and Budget (OMB) to renew its clearance for the currently approved FHWA collection of information identified below under Supplementary Information.

DATES: Please submit comments by January 6, 2004.

ADDRESSES: You may submit comments identified by DOT DMS Docket Number FHWA-2003-16313 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 am and 5 pm, Monday through Friday, except Federal Holidays.

Docket: For access to the docket to read background documents or comments received, go to http://dms.dot.gov at any time or to Room PL-401 on the plaza level of the Nassif Building, 400 Seventh Street, SW., Washington, DC, between 9 a.m. and 5 p.m., Monday through Friday, except Federal holidays.

Public Comments Invited: Interested parties are invited to send comments regarding any aspect of this information collection, including, but not limited to: (1) The necessity and utility of the information collection for the proper performance of the functions of the FHWA; (2) the accuracy of the estimated burden; (3) ways to enhance the quality, utility, and clarity of the collected information; and (4) ways to minimize the collection burden without reducing the quality of the collected information. Comments submitted in response to this notice will be summarized and/or included in the requests for OMB's clearance of the following collection of information.

SUPPLEMENTARY INFORMATION: Title: Federal-Aid Highway Construction Equal Employment Opportunity.

OMB Control Number: 2125-0019 (Expiration Date: January 31, 2004).

Background: Title 23, part 140(a), requires the FHWA to ensure equal opportunity regarding contractors' employment practices on Federal-aid highway projects. To carry out this requirement the contractors must submit to the State highway agencies an annual report providing employment work force data, which includes the number of minorities, women, and non-minorities in each construction craft. This information is reported on Form PR-1391, Federal-Aid Highway Construction Contractors Summary of Employment Data. The statute also requires the State highway agencies to submit a report to the FHWA summarizing the data entered on the PR-1391 forms. This summary data is provided on Form PR-1392, Federal-Aid Highway Construction Contractors Summary of Employment Data. The FHWA uses this data to identify patterns and trends of employment in the highway construction industry, and to determine the adequacy and impacts of the FHWA's contract compliance and on-the-job training programs.

Estimated Annual Burden: The FHWA estimates the total annual burden hours imposed on the public by this collection is 6,580 hours; i.e., 2,080 hours is required by the 52 State highway agencies to complete and submit the Form PR-1392, and an additional 4,500 hours is required for 4,500 Federal-aid highway construction contractors to complete and submit the Form PR-1391.

Number of Respondents: 52 State highway agencies and 4,500 Federal-aid highway construction contractors.

FOR FURTHER INFORMATION CONTACT: Mr. Charles Klemstine, (202) 366-6753, Department of Transportation, Federal Highway Administration, Office of Civil Rights, 400 Seventh Street, SW., Washington, DC 20590. Office hours are from 7:45 a.m. to 4:15 p.m., Monday through Friday, except Federal holidays.

Authority: 23 U.S.C. 140(a); 23 CFR 635.126; 29 U.S.C. 2; 23 U.S.C. 123; 23 U.S.C. 116; 23 U.S.C. 130; 49 CFR 1.48.

Issued on: November 3, 2003.
James R. Kabel,
Chief, Management Programs and Analysis Division.

[FR Doc. 03-28053 Filed 11-6-03; 8:45 am]

BILLING CODE 4910-22-P